DEPARTMENT OF TRANSPORTATION

Federal Aviation Administration

Notice of Intent To Rule on Application (05-08-C-00-COS) To Impose and To Use a Passenger Facility Charge (PFC) at the Colorado Springs Airport, Submitted by the City of Colorado Springs, CO.

AGENCY: Federal Aviation Administration (FAA), DOT.

ACTION: Notice of Intent To Rule on Application.

SUMMARY: The FAA proposes to rule and invites public comment on the application to impose and use a PFC at the Colorado Springs Airport under the provisions of 49 U.S.C. 40117 and part 158 of the Federal Aviation Regulations (14 CFR part 158).

DATES: Comments must be received on or before January 12, 2005.

ADDRESSES: Comments on this application may be mailed or delivered in triplicate to the FAA at the following address: Craig Sparks, Manager; Denver Airports District Office, DEN-ADO; Federal Aviation Administration; 26805 E. 68th Avenue, Suite 224; Denver, Colorado 80249-6361. In addition, one copy of any comments submitted to the FA must be mailed or delivered to Mr. Mark Earle, Director of Aviation at the following address: Colorado Springs Airport, 7770 Drennan Road, Colorado Springs, Colorado 80916.

Air Carriers and foreign air carriers may submit copies of written comments previously provided to the Colorado Springs Airport, under section 158.23 of part 158.

FOR FURTHER INFORMATION CONTACT: Mr. Christopher Schaffer. (303) 342-1258; Denver Airport District Office, DEN-ADO; Federal Aviation Administration; 26805 E. 68th Avenue, Suite 224; Denver, Colorado 80249-6361. The application may be reviewed in person at this same location.

SUPPLEMENTARY INFORMATION: The FAA proposed to rule and invites public comments on the application (05-08-C-00-COS) to impose and use a PFC at the Colorado Springs Airport, under the provisions of 49 U.S.C. 40117 and part 158 of the Federal Aviation Regulations (14 CFR part 158).

On December 7, 2004, 2004, the FAA determined that the application to impose and use a PFC submitted by the City of Colorado Springs, Colorado, was substantially complete within the requirements of section 158.25 of part 158. The FAA will approve or disapprove the application, in whole or in part, no later than March 8, 2005.

The following is a brief overview of the application.

Level of the proposed PFC: $3.00.

Proposed charge-effective date: May 1, 2005.

Proposed charge expiration date: July 1, 2010.

Total requested for use approval: $12,723,148.

Brief description of proposed projects: Rehabilitation of Runway 17L/35R, security infrastructure projects, construction of Taxiway “C” north from Taxiway “C2” to Taxiway “B2”, construct portion of Taxiway “H”, airport operations area (AOA) vehicle service roads, resurfacing of entry/exit roads, security checkpoint expansion, terminal building modifications, pavement condition survey (Taxiways “E”, “E1-8”, “G”, and “H”), terminal circulation road.

Class or classes of air carriers that the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice, and other documents germane to the application in person at the Colorado Springs Airport.

Issued in Renton, Washington, on December 7, 2004.
David A. Field,
Manager, Planning, Programming and Capacity Branch, Northwest Mountain Region.

[FR Doc. 04-27227 Filed 12-10-04; 8:45 am]

BILLING CODE 4910-13-M